INTERNATIONAL BOUNDARY AND WATER COMMISSION, UNITED STATES AND MEXICO

Notice of Availability of a Draft Environmental Assessment for Allowing Avian Hunting in Designated Areas Along the Rio Grande Canalization Project, Sierra and Doña Ana Counties, New Mexico

AGENCY: United States Section, International Boundary and Water Commission, United States and Mexico.

ACTION: Notice of Availability of the Draft Environmental Assessment (EA).

SUMMARY: Pursuant to Section 102(2)(c) of the National Environmental Policy Act of 1969; the Council on Environmental Quality Final Regulations (40 CFR parts 1500 through 1508); and the United States Section, Operational Procedures for Implementing Section 102 of NEPA, published in the Federal Register September 2, 1981, (46 FR 44083); the United States Section hereby gives notice that the Draft Environmental Assessment for Allowing Avian Hunting in Designated Areas along the Rio Grande Canalization Project, Sierra and Doña Ana Counties, New Mexico is available. An environmental impact statement will not be prepared unless additional information which may affect this decision is brought to our attention within 30-days from the date of this Notice.

FOR FURTHER INFORMATION CONTACT: Gilbert Anaya, Division Chief, Environmental Management Division; United States Section, International Boundary and Water Commission; 4171 N. Mesa, C-100; El Paso, Texas 79902. Telephone: (915) 832-4702, email: Gilbert.Anaya@ibwc.gov.

Background: This Draft Environmental Assessment analyzes the potential impacts of allowing certain types of game bird hunting within designated areas on USIBWC property in Doña Ana County, New Mexico, along the Rio Grande Canalization Project from Percha Dam near Arrey, New Mexico downstream to American Dam in El Paso, Texas.

Availability: The electronic version of the Draft EA is available from the USIBWC Web page: www.ibwc.gov/Organization/Environmental/EIS_EA_Public_Comment.html.

Dated: July 18, 2013.
Luisa Alvarez,
General Counsel.

[FR Doc. 2013-17820 Filed 7-24-13; 8:45 am]

BILLING CODE 7010-01-P